FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 10, 2000.

A. Federal Reserve Bank of Kansas City (D. Michael Manies, Assistant Vice President) 925 Grand Avenue, Kansas City, Missouri 64198-0001:

1. The B & D Lee Limited Partnership, Bryan L. and Delphia C. Lee, General Partners, Nowata, Oklahoma; to acquire voting shares of Nowata Bancshares, Inc., Nowata, Oklahoma, and thereby indirectly acquire voting shares of First National Bank of Nowata, Nowata, Oklahoma.

Board of Governors of the Federal Reserve System, September 21, 2000.
Robert deV. Frierson,
Associate Secretary of the Board.

[FR Doc. 00-24688 Filed 9-25-00; 8:45 am]

BILLING CODE 6210-01-P